ENVIRONMENTAL PROTECTION AGENCY

40 CFR Part 62

[Region II Docket No. PR6-233b; FRL-7093-8]

Approval and Promulgation of State Plans for Designated Facilities; Puerto Rico

AGENCY: Environmental Protection Agency.

ACTION: Proposed rule.

SUMMARY: The Environmental Protection Agency (EPA) is proposing to approve a negative declaration submitted by the Commonwealth of Puerto Rico. The negative declaration satisfies EPA's promulgated Emission Guidelines (EG) for existing small municipal waste combustion (MWC) units. In accordance with the EG, states are not required to submit a plan to implement and enforce the EG if there are no existing small MWC units in the state and it submits a negative declaration letter in place of the State Plan.

DATES: Written comments must be received on or before November 29, 2001.

ADDRESSES: All comments should be addressed to: Raymond Werner, Chief, Air Programs Branch, Environmental Protection Agency, Region II Office, 290 Broadway, New York, New York 10007-1866.

A copy of the Commonwealth submittal is available for inspection at the Region 2 Office in New York City. Those interested in inspecting the submittal must arrange an appointment in advance by calling (212) 637-4249. Alternatively, appointments may be arranged via e-mail by sending a message to Ted Gardella at Gardella.Anthony@epa.gov. The office address is 290 Broadway, Air Programs Branch, 25th Floor, New York, New York 10007-1866.

A copy of the Commonwealth submittal is also available for inspection at the respective offices:

Puerto Rico Environmental Quality Board, National Plaza Building, 431 Ponce De Leon Avenue, Hato Rey, Puerto Rico 00917.

Environmental Protection Agency, Air and Radiation Docket and Information Center, Air Docket (6102), 401 M Street, SW., Washington, DC 20460.

FOR FURTHER INFORMATION CONTACT: Ted Gardella, Air Programs Branch, Environmental Protection Agency, 290 Broadway, 25th Floor, New York, New York 10007-1866, telephone, (212) 637-4249.

SUPPLEMENTARY INFORMATION: For additional information see the direct final rule which is located in the Rules section of this Federal Register.

The Environmental Protection Agency (EPA) is proposing to approve a negative declaration submitted by the Commonwealth of Puerto Rico on August 2, 2001. The negative declaration officially certifies to EPA that, to the best of the Commonwealth's knowledge, there are no small municipal waste combustion units in operation in the Commonwealth of Puerto Rico. This negative declaration concerns existing small municipal waste combustion units throughout the Commonwealth of Puerto Rico. The negative declaration satisfies the federal Emission Guidelines (EG) requirements of EPA's promulgated regulation entitled “Emission Guidelines for Existing Small Municipal Waste Combustion Units” (65 FR 76378, December 6, 2000).

Dated: October 19, 2001.
William J. Muszynski,
Acting Regional Administrator, Region 2.

[FR Doc. 01-27284 Filed 10-29-01; 8:45 am]

BILLING CODE 6560-50-P